FEDERAL COMMUNICATIONS COMMISSION

47 CFR Part 64

[CG Docket 03-123 and WC Docket No. 05-196; DA 09-1323]

Telecommunications Relay Services and Speech-to-Speech Services for Individuals With Hearing and Speech Disabilities; E911 Requirements for IP-Enabled Service Providers

AGENCY: Federal Communications Commission.

ACTION: Final rule; extension of deadline.

SUMMARY: In this document, the Commission via the Consumer and Governmental Affairs Bureau (Bureau) extends the registration deadline established in the Telecommunications Relay Services and Speech-to-Speech Services for Individuals with Hearing and Speech Disabilities; E911 Requirements for IP-Enabled Service Providers, Second Report and Order and Order on Reconsideration (Second Internet-based TRS Order), during which Internet-based Telecommunications Relay Service (TRS) providers may continue to complete the non-emergency calls of unregistered users. This action is necessary because extending the deadline will ensure a more orderly transition to ten-digit numbering for users of Internet-based TRS by allowing for additional time for outreach and educational activities, as well as time to address any unresolved technical issues associated with the transition.

DATES: Document DA 09-1323 became effective on June 15, 2009. The registration deadline for Internet-based TRS providers is extended until November 12, 2009.

FOR FURTHER INFORMATION CONTACT: Thomas Chandler, Consumer and Governmental Affairs Bureau, Disability Rights Office at (202) 418-1475 (voice), (202) 418-0597 (TTY), or e-mail Thomas.Chandler@fcc.gov.

SUPPLEMENTARY INFORMATION: On December 19, 2008, the Commission released Telecommunications Relay Services and Speech-to-Speech Services for Individuals with Hearing and Speech Disabilities; E911 Requirements for IP-Enabled Service Providers, CG Docket No. 03-123 and WC Docket No. 05-196, Second Internet-based TRS Order, published at 73 FR 79683, December 30, 2008, providing existing users of Internet-based TRS a three-month registration period followed by a three-month permissive calling period which is scheduled to end on June 30, 2009. This is a summary of document DA 09-1323, adopted and released June 15, 2009.

The full text of document DA 09-1323 and copies of any subsequently filed documents in this matter will be available for public inspection and copying during regular business hours at the FCC Reference Information Center, Portals II, 445 12th Street, SW., Room CY-A257, Washington, DC 20554. Document DA 09-1323 and copies of subsequently filed documents in this matter may also be purchased from the Commission's duplicating contractor at Portals II, 445 12th Street SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). Document DA 09-1323 can also be downloaded in Word and Portable Document Format (PDF) at http://www.fcc.gov/cgb/dro/trs.html#orders.

Synopsis

Background

1. In the First Internet-based TRS Order, the Commission adopted emergency call handling requirements for Internet-based TRS, specifically Video Relay Service (VRS) and Internet Protocol (IP) Relay, as well as a system for assigning users of VRS and IP Relay ten-digit numbers linked to the North American Numbering Plan (NANP). Telecommunications Relay Services and Speech-to-Speech Services for Individuals with Hearing and Speech Disabilities, CG Docket No. 03-123; E911 Requirements for IP-Enabled Service Providers, WC Docket No. 05-196, Report and Order and Further Notice of Proposed Rulemaking, 23 FCC Rcd 11591 (June 24, 2008) (First Internet-based TRS Order); published at 73 FR 41286, July 18, 2008. The Bureau uses the term, “Internet-based TRS,” herein to refer to both VRS and IP Relay, unless otherwise specified. See 47 CFR 601(a)(11), (13), (21), and (26) of the Commission's rules (defining various forms of TRS). Although IP captioned telephone service (IP CTS) is also an Internet-based form of TRS, as noted in the First Internet-based TRS Order, the Commission has determined to address any issues relating to IP CTS, if appropriate, in a separate order because IP CTS raises distinct technical and regulatory issues. See First Internet-based TRS Order, 23 FCC Rcd at 11592, paragraph 1, note 5 (deferring action on IP CTS), see also 23 FCC Rcd at 11594, note 15 (describing captioned telephone service and IP CTS).

2. The Commission required Internet-based TRS providers to offer individuals using their service the capability to register with a “default provider,” and to begin assigning ten-digit, NANP telephone numbers to their registered users no later than December 31, 2008. The Commission explained that mandatory registration and the assignment of NANP telephone numbers would yield important benefits, including facilitating the effective provision of 911 service. The Commission required Internet-based TRS providers to obtain registration information from all new users and to assign all new users a NANP telephone number. See 47 CFR 64.611(b) of the Commission's rules (requiring mandatory registration of new users). The Commission defined a “new” user as an individual who “has not previously utilized VRS or IP Relay[.]” Existing users would also have to be registered. Recognizing that not every existing Internet-based TRS user would immediately register with a default provider, however, the Commission decided to implement a longer registration period for the existing base of users to migrate to the new ten-digit numbering plan.

3. In the Second Internet-based TRS Order, the Commission provided existing users a three-month “registration period” followed by a three-month “permissive calling period” which is scheduled to end on June 30, 2009. During the permissive calling period, Internet-based TRS providers may continue to carry non-emergency calls for unregistered users. At the conclusion of the permissive calling period, however, providers must register any unregistered user before completing a non-emergency VRS or IP Relay call.

4. On April 29, 2009, a group representing a majority of the Internet-based TRS providers filed the Joint Petition seeking to postpone the June 30, 2009, Internet-based TRS registration deadline. See Petition to Extend Relay Registration Deadline, CG Docket No. 03-123 and WC Docket No. 05-196 (filed April 29, 2009) (Joint Petition). The Joint Petition was filed by AT&T, Inc. CAC, CSDVRS, LLC, Hamilton Relay, Inc., Purple Communications, Inc., Snap Telecommunications, Inc., Sprint Nextel Corporation, and Viable, Inc. Asserting that a large percentage of existing Internet-based TRS users remain unregistered due to consumer confusion, the petitioners urge the Commission to extend the deadline “indefinitely” until certain milestones are adequately satisfied. Joint Petition at 9. Although “reluctant to suggest the exact deadline,” the petitioners suggested a “goal” of December 31, 2009. Joint Petition at 9.

5. The petitioners identify four “milestones” they believe should be achieved before the permissive calling period is allowed to end: (1) Implementation of a reverse look-up function that would automatically verify whether a caller is registered; (2) implementation of “an extensive public education and outreach campaign;” (3) resolution of concerns about the assignment of geographically appropriate phone numbers; and (4) resolution of equipment portability issues. Joint Petition at 10-11.

6. Sorenson Communications, Inc., filed an ex parte letter in response to the Joint Petition. See Letter from Gil M. Strobel, Sorenson Communications, Inc., to Marlene H. Dortch (dated May 12, 2009). While Sorenson does not expressly ask the Commission to deny the petition, Sorenson does express the view that an extension is not needed, and states its concern about the open-ended nature of the petitioners' request.

Discussion

7. The Bureau finds good cause to extend the June 30, 2009 registration deadline established in the Second Internet-based TRS Order and, therefore, the Bureau extends until November 12, 2009, the date after which VRS and IP Relay providers must stop completing non-emergency calls for unregistered users. The Bureau concludes that extending the deadline will ensure a more orderly transition to ten-digit numbering for users of Internet-based TRS. In particular, the Bureau is concerned that, despite the outreach and consumer education efforts already undertaken by the Commission and the Internet-based TRS providers, many users may remain uncertain about how the ten-digit numbering and E911 requirements will affect their use of Internet-based TRS and their rights and responsibilities under the new rules. See, e.g., Joint Petition at 6-9 (discussing several areas of customer confusion concerning the use of toll-free numbers, equipment and number porting, and misconceptions about the use of a single number for multiple services).

8. In addition, the Bureau has received recent data from some providers indicating that a majority of calls presently handled are not being made via a new ten-digit number. See, e.g., CSDVRS Ex parte letter, CG Docket No. 03-123 (June 11, 2009); Hamilton Relay, Inc. Ex parte letter, CG Docket No. 03-123, WC Docket No. 05-196 (June 11, 2009). Extending the end of the permissive calling period until November 12, 2009 will enable the Commission, as well as the providers, to conduct additional outreach and education addressing particular consumer concerns associated with the transition to ten-digit numbering for Internet-based TRS. And to the extent that there are technical concerns, as petitioners suggest, this additional time will allow them to be addressed.

9. The Bureau is not, however, persuaded that it should extend the June 30th deadline indefinitely, as petitioners request. As Sorenson notes in its ex parte filing, registering users for ten-digit numbers “is critical for public safety.” Sorenson Letter (May 12, 2009) at 4. In the Second Internet-Based TRS Order, the Commission found that “mandatory registration is critical to the effective handling of 911 calls.” An indefinite delay in implementation would come at the expense of enhanced emergency services for Internet-based TRS users. The Bureau believes that the extension granted here reasonably balances the concerns raised in the Joint Petition against the public safety implications of further delay.

Ordering Clauses

Pursuant to the authority contained in sections 4(i) and 225 of the Communications Act of 1934, as amended, 47 U.S.C. 154(i), 225, and §§ 0.141, 0.361, and 1.3 of the Commission's rules, 47 CFR 0.141, 0.361, 1.3, document DA 09-1323 is adopted.

The June 30, 2009 Internet-based TRS registration deadline is extended until November 12, 2009. The Petition to Extend Relay Registration Deadline, filed by AT&T, Inc., CAC, CSDVRS, LLC, Hamilton Relay, Inc., Purple Communications, Inc., Snap Telecommunications, Inc., Sprint Nextel Corporation, and Viable, Inc. on April 29, 2009 is granted, in part, and denied, in part, to the extent described herein.

Federal Communications Commission.
Mark Stone,
Deputy Chief, Consumer and Governmental Affairs Bureau.

[FR Doc. E9-22319 Filed 9-17-09; 8:45 am]

BILLING CODE 6712-01-P